DEPARTMENT OF HEALTH AND HUMAN SERVICES

Administration for Children and Families

Submission for OMB Review; National Advisory Committee on the Sex Trafficking of Children and Youth in the United States (NAC) Recommendations and State Self-Assessment Survey (NEW)

AGENCY: Office on Trafficking in Persons, Administration for Children and Families, HHS.

ACTION: Request for public comment.

SUMMARY: The Office on Trafficking in Persons (OTIP), Administration for Children and Families (ACF), U.S. Department of Health and Human Services (HHS), is proposing to collect data for a new survey, the National Advisory Committee on the Sex Trafficking of Children and Youth in the United States (NAC) Recommendations and State Self-Assessment Survey.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Preventing Sex Trafficking and Strengthening Families Act of 2014 mandated the NAC to develop a report describing how each state and territory has implemented its recommendations to address sex trafficking in children and youth. The NAC proposes to administer a survey allowing states to assess their progress in implementing NAC recommendations. Submissions will allow states to document their efforts in the following sections: Multidisciplinary Response, Screening and Identification, Child Welfare, Service Provision, Housing, Law Enforcement and Prosecution, Judiciary, Demand Reduction, Prevention, Legislation and Regulation, Research and Data, and Funding. Each state will have the opportunity to provide a self-assessed tier ranking for each recommendation, a justification of their assessment, sources for their assessment, and the public or private nature of those sources.

Respondents: State Governors, Child Welfare Agencies, Local Law Enforcement, and Other Local Agencies.

Annual Burden Estimates:

Estimated Opportunity Costs for Respondents
Instrument | Total number of respondents contributing for 50 states | Total number of responses per respondent | Average burden hours per response | Total/annual burden hours
NAC Recommendations and State Self-Assessment Survey | 250 | 1 | 6.85 | 1,713

Estimated Total Annual Burden Hours: 1,713.

Estimated Recordkeeping Costs
Instrument | Total number of respondents | Total number of responses per respondent | Average burden hours per response | Total/annual burden hours
NAC Recommendations and State Self-Assessment Survey | 50 | 1 | 40 | 2,000.

Estimated Total Annual Burden Hours: 2,000

(Authority: 42 U.S.C. 1314b)

John M. Sweet Jr.,
ACF/OPRE Certifying Officer.

[FR Doc. 2020-21617 Filed 9-29-20; 8:45 am]

BILLING CODE 4184-47-P